DEPARTMENT OF THE INTERIOR

National Park Service

National Register of Historic Places; Notification of Pending Nominations and Related Actions

Nominations for the following properties being considered for listing or related actions in the National Register were received by the National Park Service before November 21, 2009. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by December 24, 2009.

J. Paul Loether,
Chief, National Register of Historic Places/National Historic Landmarks Program.

ARIZONA

Maricopa County

Buckeye Union High School A-Wing, 902 E. Eason Ave., Buckeye, 09001160

CALIFORNIA

Sacramento County

SMUD Headquarters Building, 6301 S. St., Sacramento, 09001161

IDAHO

Blaine County

Rialto, Hotel, The, 201 S. Main St., Hailey, 09001162

Kootenai County

Mooney-Dahlberg Farmstead,

5803 Riverview Dr., Coeur d'Alene, 09001163

KANSAS

Marshall County

Transue Brothers Blacksmith & Wagon Shop, 309 Main St., Summerfield, 09001164

Montgomery County

Independence Junior High School, (Public Schools of Kansas MPS) 300 W. Locust St., Independence, 09001165

Republic County

Cossaart Barn, (Agriculture-Related Resources of Kansas) 3040 Birch Rd., Narka, 09001166

Sedgwick County

Fairmount Apartments, (Residential Resources of Wichita, Sedgwick County, Kansas 1870-1957) 1702 N. Fairmont Ave., Wichita, 09001167

Fairview Apartments, (Residential Resources of Wichita, Sedgwick County, Kansas 1870-1957) 206 E. 18th St., Wichita, 09001168

Shawnee County

Topeka Council of Colored Women's Clubs Building, 1149 SW Lincoln, Topeka, 09001169

Wabaunsee County

East Stone Arch Bridge—Lake Wabaunsee, (Masonry Arch Bridges of Kansas TR) E. Flint Hills Dr., 9 mi. S. of KS 4, Eskridge, 09001170

Southeast Stone Arch Bridge—Lake Wabaunsee, (Masonry Arch Bridges of Kansas TR) E. Flint Hills Dr. 2.2 mi. S. of KS 4, Eskridge, 09001171

MARYLAND

Baltimore County

Dumbarton Historic District, Roughly bounded by Park Heights Ave., Slade Ave., Seven Mile La., and Old Court Rd., Pikesville, 09001172

Baltimore Independent City

Union Baptist Church, 1219 Druid Hill Ave., Baltimore City, 09001173

MASSACHUSETTS

Worcester County

Thayer, Benjamin, House, 200 Farm St., Blackstone, 09001174

MISSOURI

St. Louis County

Cragwold, 1455 Cragwold Rd., Kirkwood, 09001175

MONTANA

Beaverhead County

Browne's Bridge, (Montana's Historic Steel Truss Bridges) Browne's Bridge Fishing Access Site, Glen, 09001179

Cascade County

Hardy Bridge, (Montana's Historic Steel Truss Bridges) Milepost 6 on Old US 91, Cascade, 09001180

Lewis and Clark County

Missouri River Bridge, (Montana's Historic Steel Truss Bridges) Milepost 11 on Old US 91, Wolf Creek, 09001181

Madison County

Browne's Bridge, (Montana's Historic Steel Truss Bridges) Browne's Bridge Fishing Access Site, Glen, 09001179

Mineral County

Natural Pier Bridge, (Montana's Historic Steel Truss Bridges) Milepost 1 on S. Frontage Rd., Alberton, 09001182

Scenic Bridge, (Montana's Historic Steel Truss Bridges) Milepost 0 on Old US 10 W., Tarkio, 09001183

Park County

Carbella Bridge, (Montana's Historic Steel Truss Bridges) Milepost 0 on Tom Miner Rd. near jct of US 89, Gardiner, 09001184

Powell County

Little Blackfoot River Bridge, (Montana's Historic Steel Truss Bridges) Milepost 0 on County Rd. 186 near jct. of US 12, Avon, 09001185

Prairie County

Powder River Bridge, (Montana's Historic Steel Truss Bridges) Milepost 6 on 1-94 (Old US 10), Terry, 09001186

Yellowstone River Bridge, (Montana's Historic Steel Truss Bridges) Milepost 1 on I-94 (Old US 10), Fallon, 09001187

Treasure County

Big Horn River Bridge, (Montana's Historic Steel Truss Bridges) Milepost 2 on MT 104 (Old US 10), Custer, 09001188

Yellowstone County

Big Horn River Bridge, (Montana's Historic Steel Truss Bridges) Milepost 2 on MT 104 (Old US 10), Custer, 09001188

NEW JERSEY

Essex County

Interstate Hosiery Mills, Inc. Mill Building, 110 N. Fulton St., Bloomfield, 09001176

Union County

Summit Playhouse, 10 New England Ave., Summit, 09001177

NORTH CAROLINA

Lincoln County

Lincolnton Recreation Department Youth Center,119 E. Pine St., Lincolnton, 09001178

WEST VIRGINIA

Berkeley County

Vanmetre, Thomas, House, 3093 Golf Course Rd., Martinsburg, 09001189

Cabell County

Barnett Hospital and Nursing School, 1201 7th Ave., Huntington, 09001190

Hampshire County

Fort Van Meter, River Rd., Romney, 09001191

Preston County

Gribble, A.W., Farm, Loop Rd., Pisgah, 09001192

Randolph County

First Ward School, S. Davis Ave. and 13th St., Elkins, 09001193

Riverside School, Block No. 1, River St., Elkins, 09001194

Tucker County

Meyer, Herman August, House, 287 Thomas Ave., Davis, 09001195

Upshur County

Downtown Buckhannon Historic District, Portions of E. and W. Main, N. and S. Florida, Locust, N. and S. Kanawha and Spring Sts., Buckhannon, 09001196

Webster County

Camp Caesar, 4868 Webster Rd., Cowen, 09001197

WISCONSIN

Oneida County

Yawkey, William H., Boathouse, 7090 Woodson St., Hazelhurst, 09001198

[FR Doc. E9-29268 Filed 12-8-09; 8:45 am]

BILLING CODE P